FEDERAL COMMUNICATIONS COMMISSION

47 CFR Parts 73 and 76

[FCC 05-22]

Order on Reconsideration, in the Matter of Children's Television Obligations of Digital Television Broadcasters

AGENCY: Federal Communications Commission.

ACTION: Final rule; stay of effective date.

SUMMARY: This document stays two sections of the CFR regarding the requirements for Internet Web site address displays in children's television programming in MM Docket 00-167, published on January 3, 2005 (70 FR 25), until January 1, 2006. These requirements became effective on February 3, 2005.

DATES: Effective May 11, 2005, 47 CFR 73.670(b) and (c) and 76.225(b) and (c) are stayed until January 1, 2006.

ADDRESSES: Federal Communications Commission, 445 12th Street, SW., Washington, DC 20554.

FOR FURTHER INFORMATION CONTACT: Kim Matthews, Policy Division, Media Bureau, Federal Communications Commission, (202) 418-2120.

SUPPLEMENTARY INFORMATION: Among other things, the Report and Order adopted September 9, 2004 in MM Docket 00-167 (70 FR 25, January 3, 2005) held that the display of Internet Web site addresses during programs directed to children ages 12 and under is permitted as within the commercial time limitations only if the Web site meets the following criteria: (1) It offers a substantial amount of bona fide program-related or other noncommercial content; (2) it is not primarily intended for commercial purposes, including either e-commerce or advertising; (3) the Web site's Home page and other menu pages are clearly labeled to distinguish the noncommercial from the commercial sections; and (4) the page of the Web site to which viewers are directed by the Web site address is not used for e-commerce, advertising, or other commercial purposes (e.g., contains no links labeled “store” and no links to another page with commercial material). The Report and Order also states that the display of Web site addresses in children's programs is prohibited during both program material and commercial material when the site uses characters from the program to sell products or services. This Order on Reconsideration grants the informal request of a number of broadcasters and cable operators and programmers that the effective date of these new rules be deferred to January 1, 2006, consistent with the effective date of many of the other requirements in the Order.

A number of broadcasters and cable operators and programmers have expressed concern that compliance with these new requirements by the February 1, 2005, effective date will be difficult. Specifically, these parties state that they were unprepared for the decision to regulate Web site displays virtually immediately, and that each company must structure a plan of compliance and then reconstruct its Web site or Web sites accordingly. These parties have requested that the effective date of these new rules be stayed to January 1, 2006, consistent with the effective date of many of the other requirements in the Report and Order.

We believe that it is appropriate to afford broadcasters and cable operators additional time to come into compliance with these newly adopted requirements. Accordingly, on our own motion, pursuant to 47 CFR 1.108, we stay the effective date of newly adopted §§ 73.670(b) and (c) and Sections 76.225(b) and (c) of Title 47 of the Commission's rules until January 1, 2006. This stay in the effective date of these new provisions will give broadcasters and cable operators more time to review and make any necessary changes to their programs or Web sites to comply with these new requirements.

The Report and Order also makes effective February 1, 2005 the decision to apply the commercial limits and policies to all digital video programming directed to children ages 12 and under, whether that programming is aired on a free or pay digital stream. Thus, the limitation on the number of minutes of commercial matter in children's programming to 10.5 minutes per hour on weekends and 12 minutes per hour on weekdays applies to both analog and digital broadcasters and to both free and pay digital streams. We do not delay the effective date of this requirement. However, the Report and Order was published in the Federal Register January 3, 2005. Accordingly, we will commence enforcement of this requirement February 3, 2005, rather than February 1, 2005.

Congressional Review Act. The Commission will send a copy of this Order on Reconsideration in a report to be sent to Congress and the General Accounting Office pursuant to the Congressional Review Act, see 5 U.S.C. 801(a)(1)(A).

Paperwork Reduction. This Order on Reconsideration does not contain new or modified information collection requirements subject to the Paperwork Reduction Act of 1995, Public Law 104-13. In addition, therefore, it does not contain any new or modified “information collection burden for small business concerns with fewer than 25 employees,” pursuant to the Small Business Paperwork Relief Act of 2002, Public Law 107-198, see 44 U.S.C. 3506(ca)(4).

Accordingly, it is ordered that 47 CFR Sections 73.670(b) and (c) and Sections 76.225(b) and (c) as adopted in the Report and Order in the above-captioned proceeding are stayed until January 1, 2006.

List of Subjects in 47 CFR Parts 73 and 76

Cable, Television.

Federal Communications Commission.
Marlene H. Dortch,
Secretary.

[FR Doc. 05-9104 Filed 5-10-05; 8:45 am]

BILLING CODE 6712-01-P